DEPARTMENT OF DEFENSE

Office of the Secretary

Reinstatement of an Expired Collection; Comment Request

AGENCY: Office of the Assistant Secretary of Defense for Health Affairs, DoD.

ACTION: Notice.

In accordance with Section 3506(c)(2)(A) of the Paperwork Reduction Act of 1995, the Office of the Assistant Secretary of Defense (Health Affairs) announces the proposed reinstatement of a public information collection and seeks public comment on the provisions thereof. Comments are invited on: (a) Whether the proposal extension of collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received September 12, 2003.

ADDRESSES: Written comments and recommendations on the information collection should be sent to Office of the Assistant Secretary of Defense (Health Affairs) TRICARE Management Activity (Operations Directorate), Skyline Five, Suite 810, 5111 Leesburg Pike, Falls Church, Virginia 22041-3206.

FOR FURTHER INFORMATION CONTACT: To request more information on this proposed information collection, please write to the above address or call Lt. Col. James Whitton, Office of the Assistant Secretary of Defense (Health Affairs), TRICARE Management Activity at (703) 681-0039.

Title; Associated Form; and OMB Number: TRICARE Prime Enrollment Application/PCM Change Form and TRICARE Prime Disenrollment Application, OMB No. 0720-0008.

Needs and Uses: These collection instruments serve as applications for the enrollment, disenrollment and Primary Care Manager (PCM) Change for the Department of Defense's TRICARE Prime program established in accordance with Title 10 U.S.C. Section 1099 (which calls for a healthcare enrollment system). Monthly payment options for retiree enrollment fees for TRICARE Prime are established in accordance with Title 10 U.S.C. Section 1097a(c). The information collected on the TRICARE Prime Enrollment Application/PCM Change Form provides the necessary data to determine beneficiary eligibility, to identify the selection of a health care option, and to change the designated PCM when the beneficiary is relocating or merely requests a local PCM change, in accordance with the National Defense Authorization Act for Fiscal Year 2001 (Pub. L. 106-398), Section 723(b)(E). The TRICARE Prime Disenrollment Application serves to disenroll an enrollee from TRICARE Prime on a voluntary basis.

Affected Public: Individuals or household.

Annual Burden Hours: 41,260.

Number of Respondents: 253,200.

Responses per Respondent: 1.

Average Burden per Response: TRICARE Prime Enrollment Application/PCM Change Form: 20 minutes or .33% of an hour; TRICARE Disenrollment Application: 5 minutes or .083% of an hour.

Frequency: On occasion.

SUPPLEMENTARY INFORMATION:

Summary of Information Collection

The Department established TRICARE Prime as an enrollment option to give CHAMPUS-eligible beneficiaries a DoD-sponsored military managed care program. In order to simplify the collection of information on enrollment applications for TRICARE Prime, the existing information collection is being modified to create two separate forms: Initial enrollment/PCM changes and disenrollment. The utilization of these two forms will decrease the total amount of time to complete forms by respondents and will streamline the enrollment/PCM change and disenrollment process. In order to implement this program, it is necessary that certain beneficiaries electing to enroll, change PCM or disenroll complete an enrollment application/PCM change form or disenrollment. Completion of these forms is an essential element of the TRICARE program.

Dated: July 8, 2003.
Patricia L. Toppings,
Alternate OSD Federal Register Liaison Officer, Department of Defense.

[FR Doc. 03-17720 Filed 7-11-03; 8:45 am]

BILLING CODE 5001-08-M